DEPARTMENT OF THE INTERIOR

Minerals Management Service

Agency Information Collection Activities: Submitted for Office of Management and Budget (OMB) Review; Comment Request

AGENCY: Minerals Management Service (MMS), Interior.

ACTION: Notice of extension of an information collection (1010-0051).

SUMMARY: To comply with the Paperwork Reduction Act of 1995 (PRA), we are notifying the public that we have submitted to OMB an information collection request (ICR) to renew approval of the paperwork requirements in the regulations under 30 CFR 250, Subpart L, “Oil and Gas Production Measurement, Surface Commingling, and Security,” and related documents. This notice also provides the public a second opportunity to comment on the paperwork burden of these regulatory requirements.

DATES: Submit written comments by June 8, 2007.

ADDRESSES: You may submit comments either by fax (202) 395-6566 or e-mail (OIRA_DOCKET@omb.eop.gov) directly to the Office of Information and Regulatory Affairs, OMB, Attention: Desk Officer for the Department of the Interior (1010-0051). Mail or hand carry a copy of your comments to the Department of the Interior; Minerals Management Service; Attention: Cheryl Blundon; Mail Stop 4024; 381 Elden Street; Herndon, Virginia 20170-4817. If you wish to e-mail your comments to MMS, the address is: rules.comments@mms.gov. Reference Information Collection 1010-0051 in your subject line and mark your message for return receipt. Include your name and return address in your message text.

FOR FURTHER INFORMATION CONTACT: Cheryl Blundon, Regulations and Standards Branch, (703) 787-1607. You may also contact Cheryl Blundon to obtain a copy, at no cost, of the regulations that require the subject collection of information.

SUPPLEMENTARY INFORMATION: Title: 30 CFR 250, Subpart L, Oil and Gas Production Measurement,Surface Commingling, and Security.

OMB Control Number: 1010-0051.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition. The Federal Oil and Gas Royalty Management Act of 1982 (30 U.S.C. 1701, et seq.) at section 1712(b)(2) prescribes that an operator will “develop and comply with such minimum site security measures as the Secretary deems appropriate, to protect oil or gas produced or stored on a lease site or on the Outer Continental Shelf from theft.”

These authorities and responsibilities are among those delegated to the Minerals Management Service (MMS). This information collection request addresses the regulations at 30 CFR part 250, subpart L, Oil and Gas Production Measurement, Surface Commingling, and Security, and the associated supplementary notices to lessees and operators (NTLs) intended to provide clarification, description, or explanation of these regulations.

Regulations implementing these responsibilities are under 30 CFR part 250. Responses are mandatory. No questions of a “sensitive” nature are asked. MMS will protect proprietary information according to 30 CFR 250.197, “Data and information to be made available to the public,” and 30 CFR Part 252, “OCS Oil and Gas Information Program.”

MMS uses the information collected under subpart L to ensure that the volumes of hydrocarbons produced are measured accurately, and royalties are paid on the proper volumes. Specifically, MMS needs the information to:

• Determine if measurement equipment is properly installed, provides accurate measurement of production on which royalty is due, and is operating properly;

• Obtain rates of production data in allocating the volumes of production measured at royalty sales meters, which can be examined during field inspections;

• Ascertain if all removals of oil and condensate from the lease are reported;

• Determine the amount of oil that was shipped when measurements are taken by gauging the tanks rather than being measured by a meter;

• Ensure that the sales location is secure and production cannot be removed without the volumes being recorded; and

• Review proving reports to verify that data on run tickets are calculated and reported accurately.

Frequency: The frequency varies by section, but is primarily monthly or on occasion.

Estimated Number and Description of Respondents: Approximately 130 Federal OCS oil and gas or sulphur lessees.

Estimated Reporting and Recordkeeping “Hour” Burden: The estimated annual “hour” burden for this information collection is a total of 8,533 hours. The following chart details the individual components and estimated hour burdens. In calculating the burdens, we assumed that respondents perform certain requirements in the normal course of their activities. We consider these to be usual and customary and took that into account in estimating the burden.

Citation 30 CFR 250 subpart L | Reporting or recordkeeping requirement | Hour burden minutes | Average number of annual responses | Annual burden hours
|  | Fees
1202(a)(1), (b)(1); 1203(b)(1);1204(a)(1) | Submit application for liquid hydrocarbon or gas measurement procedures or changes; or for commingling of production or changes | 11 | 363 | 3,993
|  | $1,200 simple fee × 57 applications = $68,400
|  | $3,550 complex fee × 306 applications = $1,086,300
Subtotal | 363 responses |  | 3,993
| $1,154,700 fees
1202(a)(4) | Copy & send pipeline (retrograde) condensate volumes upon request | 45 minutes | 21 | 16
1202(c)(4)* | Copy & send all liquid hydrocarbon run tickets monthly | 1 minute | 24,450 | 408 (rounded)
1202(d)(5)* | Copy & submit liquid hydrocarbon royalty meter proving reports monthly & request waiver as needed | 2 minutes | 9,870 | 329
1202(f)(2)* | Copy & submit mechanical-displacement prover & tank prover calibration reports | 10 minutes | 102 | 17
1202(l)(2)* | Copy & submit royalty tank calibration charts before using for royalty measurement | 15 minutes | 12 | 3
1202(l)(3)* | Copy & submit inventory tank calibration charts upon request; retain charts for as long as tanks are in use | 15 minutes 5 minutes | 4 115 | 1 10 (rounded)
1203(b)(6), (8), (9)* | Copy & submit gas quality and volume statements monthly or as requested (most will be routine; few will take longer) | 2 minutes 30 minutes | 21,792 48 | 726 (rounded) 24
1203(c)(4)* | Copy & submit gas meter calibration reports upon request; retain for 2 years | 5 minutes 1 minute | 44 19,290 | 4 (rounded), 322 (rounded)
1203(e)(1)* | Copy & submit gas processing plant records upon request | 30 minutes | 4 | 2
1203(f)(5) | Copy & submit measuring records of gas lost or used on lease upon request | 30 minutes | 24 | 12
Subtotal | 75,776 responses |  | 1,874
1202(c)(1), (2); 1202(e)(4); 1202(h)(1), (2), (3), (4); 1202(i)(1)(iv), (2)(iii);1202(j) | Record observed data, correction factors & net standard volume on royalty meter and tank run tickets Record master meter calibration runs. Record mechanical-displacement prover, master meter, or tank prover proof runs. Record liquid hydrocarbon royalty meter malfunction and repair or adjustment on proving report; record unregistered production on run ticket. List Cpl and Ctl factors on run tickets. | Respondents record these items as part of normal business records & practices to verify accuracy of production measured for sale purposes |  | 0
1202(d)(4) | Request approval for proving on a schedule other than monthly | 1 | 35 | 35
1204(a)(2) | Provide state production volumetric and/or fractional analysis data upon request | 1 | 1 | 1
1205(a)(2) | Post signs at royalty or inventory tank used in royalty determination process | 1 | 85 | 85
1205(a)(4) | Report security problems (telephone) | 15 minutes | 2 | 1 (rounded)
1200 thru 1205 | General departure and alternative compliance requests not specifically covered elsewhere in subpart L | 1 | 60 | 60
Subtotal | 183 responses |  | 182
1202(e)(6) | Retain master meter calibration reports for 2 years | 1 minute | 1,420 | 24 (rounded)
1202(k)(5) | Retain liquid hydrocarbon allocation meter proving reports for 2 years | 1 minute | 10,875 | 182 (rounded)
1203(f)(4) | Document & retain measurement records on gas lost or used on lease for 2 years at field location and minimum 7 years at location of respondent's choice | 1 minute | 4,045 | 68 (rounded)
1204(b)(3) | Retain well test data for 2 years | 2 minutes | 57,400 | 1,914 (rounded)
1205(b)(3), (4) | Retain seal number lists for 2 years | 2 | 8,870 | 296 (rounded)
Subtotal | 82,610 responses |  | 2,484 hours
Total Hour and Fee Burden | 158,932 | 8,533 $1,154,700
*Respondents gather this information as part of their normal business practices. MMS only requires copies of readily available documents. There is no burden for testing, meter reading, etc.

Estimated Reporting and Recordkeeping “Non-Hour Cost” Burden: We have identified two paperwork “non-hour cost” burdens associated with this collection of information (see Hour and Fee Burden table). One is a $1,200 simple fee and the other is a $3,550 complex fee for a total of $1,154,700.

Simple fee applications are to temporarily reroute production (for a duration not to exceed six months); production tests prior to pipeline construction; departures related to meter proving, well testing, or sampling frequency.

Complex fee applications are for creations of new facility measurement points (FMPs); association of leases or units with existing FMPs; inclusion of production from additional structures; meter updates which add buy-back gas meters or pigging meters; other applications which request deviations from the approved allocation procedures.

The application filing fees are required to recover the Federal Government's processing costs. We have not identified any other “non-hour cost” burdens associated with this collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on October 3, 2006, we published a Federal Register notice (71 FR 58429) announcing that we would submit this ICR to OMB for approval. The notice provided the required 60-day comment period. In addition, § 250.199 provides the OMB control number for the information collection requirements imposed by the 30 CFR 250 regulations. The regulation also informs the public that they may comment at any time on the collections of information and provides the address to which they should send comments. We received one comment in response to these efforts, but it was not germane to the paperwork requirements.

If you wish to comment in response to this notice, you may send your comments to the offices listed under the ADDRESSES section of this notice. OMB has up to 60 days to approve or disapprove the information collection but may respond after 30 days. Therefore, to ensure maximum consideration, OMB should receive public comments by June 8, 2007.

Public Comment Procedures: The MMS's practice is to make comments, including names and addresses of respondents, available for public review. If you wish your name and/or address to be withheld, you must state this prominently at the beginning of your comment. The MMS will honor the request to the extent allowable by the law; however, anonymous comments will not be considered. There may be circumstances in which we would withhold from the record a respondent's identity, as allowable by the law. If you wish us to withhold your name and/or address, you must state this prominently at the beginning of your comment. In addition, you must present a rationale for withholding this information. This rationale must demonstrate that disclosure “would constitute an unwarranted invasion of privacy.” Unsupported assertions will not meet this burden. In the absence of exceptional, documentable circumstances, this information will be released. All submissions from organizations or businesses, and from individuals identifying themselves as representatives or officials of organizations or businesses, will be made available for public inspection in their entirety.

MMS Information Collection Clearance Officer: Arlene Bajusz (202) 208-7744.

Dated: April 6, 2007.
E.P. Danenberger,
Chief, Office of Offshore Regulatory Programs.

[FR Doc. E7-8837 Filed 5-8-07; 8:45 am]

BILLING CODE 4310-MR-P